DEPARTMENT OF LABOR

Employment and Training Administration

Comment Request for Information Collection for Work Application/Job Order Recordkeeping, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about the collection of data concerning the extension without changes of the data retention required by 20 CFR 652.8(d)(5) of the Wagner-Peyser Act, which requires each state to retain applications and job orders for a minimum of one year. The current expiration date for this information collection request is June 30, 2013.

DATES: Written comments must be submitted to the office listed in the addresses section below on or before April 8, 2013.

ADDRESSES: Submit written comments to U.S. Department of Labor, Employment and Training Administration, Attention: Adriana Kaplan, 200 Constitution Avenue NW., Room S4209, Washington, DC 20210. Telephone number: 202-693-3740 (this is not a toll-free number). Individuals with hearing or speech impairments may access the telephone number above via TTY by calling the toll-free Federal Information Relay Service at 1-877-889-5627 (TTY/TDD). Fax: 202--693-3587. Email: Kaplan.Adriana@dol.gov. Obtain a copy of the proposed information collection request (ICR) by contacting the office listed above.

SUPPLEMENTARY INFORMATION:

I. Background

Currently, the Employment and Training Administration is soliciting comments concerning the proposed extension/reinstatement of the data retention required by 20 CFR 652.8(d)(5) of the Wagner-Peyser Act, which requires each state to retain applications and job orders for a minimum of one year.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension without changes.

Title: Work Application/Job Order Recordkeeping.

OMB Number: 1205-0001.

Affected Public: State governments.

Total Annual Respondents: 52.

Annual Frequency: On occasion.

Total Annual Responses: Variable depending on number of job orders and work applications.

Average Time per Response: Variable.

Estimated Total Annual Burden Hours: 8 hours per state or 416.

Total Annual Burden Cost for Respondents: 0.

Comments submitted in response to this comment request will be summarized and/or included in the request for OMB approval of the ICR; they will also become a matter of public record.

Signed in Washington, DC, this 25th day of January 2013.
Jane Oates,
Assistant Secretary for Employment and Training, Labor.

[FR Doc. 2013-02545 Filed 2-5-13; 8:45 am]

BILLING CODE 4510-FN-P